DEPARTMENT OF DEFENSE

Defense Acquisition Regulations System

48 CFR Chapter 2

[Docket DARS-2019-0067]

Defense Federal Acquisition Regulation Supplement: Public Meeting on Noncommercial Computer Software (DFARS Case 2018-D018)

AGENCY: Defense Acquisition Regulations System, Department of Defense (DoD).

ACTION: Proposed rule; rescheduling of public meeting.

SUMMARY: DoD is rescheduling a public meeting to hear the views of experts and interested parties in Government and the private sector regarding amending the Defense Federal Acquisition Regulation Supplement (DFARS) to implement a section of the National Defense Authorization Act for Fiscal Year 2018 that requires DoD to consider all noncommercial computer software and related materials necessary to meet the needs of the agency.

DATES:

Public Meeting Date: The public meeting previously scheduled for March 3, 2022, is rescheduled for March 10, 2022, from 11:00 a.m. to 5:00 p.m., Eastern time. The public meeting will end at the stated time, or when the discussion ends, whichever comes first.

Registration Date: Registration to attend the public meeting must be received no later than close of business on March 3, 2022. Information on how to register for the public meeting may be found under the heading SUPPLEMENTARY INFORMATION section of this notice.

ADDRESSES: The virtual public meeting will be held using Zoom video conferencing software.

FOR FURTHER INFORMATION CONTACT: Mr. David E. Johnson, telephone 571-372-6115.

SUPPLEMENTARY INFORMATION: DoD is hosting a public meeting to continue a dialogue with experts and interested parties in Government and the private sector regarding amending the DFARS to implement section 871 of the National Defense Authorization Act for Fiscal Year 2018, which requires DoD to consider all noncommercial computer software and related materials necessary to meet the needs of the agency. DoD published a proposed rule in the Federal Register on January 28, 2022, at 87 FR 4546.

Registration: Individuals wishing to participate in the virtual meeting must register by March 3, 2022, to facilitate entry to the meeting. Interested parties may register for the meeting by sending the following information via email to osd.dfars@mail.mil and include “Public Meeting, DFARS Case 2018-D018” in the subject line of the message:

• Full name.

• Valid email address, which will be used for admittance to the meeting.

• Valid telephone number, which will serve as a secondary connection method. Registrants must provide the telephone number they plan on using to connect to the virtual meeting.

• Company or organization name.

• Whether the individual desires to make a presentation.

Individuals who registered for the prior meeting date will not need to re-register for the rescheduled public meeting date. Pre-registered individuals will receive instructions for connecting using the Zoom video conferencing software not more than one week before the meeting is scheduled to commence.

Presentations: Presentations will be limited to 5 minutes per company or organization. This limit may be subject to adjustment, depending on the number of entities requesting to present, in order to ensure adequate time for discussion. If you wish to make a presentation, please submit an electronic copy of your presentation via email to osd.dfars@mail.mil no later than the registration date for the specific meeting. Each presentation should be in PowerPoint to facilitate projection during the public meeting and should include the presenter's name, title, organization affiliation, telephone number, and email address on the cover page.

Correspondence, Comments, and Presentations: Please cite “Public Meeting, DFARS Case 2018-D018” in all correspondence related to the public meeting. There will be no transcription at the meeting. The submitted presentations will be the only record of the public meeting and will be posted to the following website at the conclusion of the public meeting: https://www.acq.osd.mil/dpap/dars/technical_data_rights.html.

Jennifer D. Johnson,
Editor/Publisher, Defense Acquisition Regulations System.

[FR Doc. 2022-03319 Filed 2-15-22; 8:45 am]

BILLING CODE 5001-06-P